ENVIRONMENTAL PROTECTION AGENCY

[ER-FRL-9044-8]

Environmental Impact Statements; Notice of Availability

Responsible Agency: Office of Federal Activities, General Information 202-564-5632 or https://www.epa.gov/nepa/

Weekly receipt of Environmental Impact Statements Filed 05/06/2019 Through 05/10/2019

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20190096, Final, DOE, TX, ADOPTION—Rio Grande LNG Project, Contact: Brian Lavoie 202-586-2459

The Department of Energy (DOE) has adopted the Federal Energy Regulatory Commission's Final EIS No. 20190079, filed 4/26/2019 with the EPA. DOE was a cooperating agency on this project. Therefore, recirculation of the document is not necessary under Section 1506.3(c) of the CEQ regulations.

EIS No. 20190097, Draft Supplement, USAF, GU, Tinian Divert Infrastructure Improvements, Commonwealth of the Northern Mariana Islands, Comment Period Ends: 07/01/2019, Contact: Julianne Turko 210-925-3777.

EIS No. 20190098, Draft, BLM, MT, Missoula Draft Resource Management Plan and Environmental Impact Statement, Comment Period Ends: 08/15/2019, Contact: Maggie Ward 406-329-3914.

EIS No. 20190099, Draft, BLM, MT, Draft Lewistown Resource Management Plan, Comment Period Ends: 08/15/2019, Contact: Dan Brunkhorst 406-538-1900.

EIS No. 20190100, Final, USFS, NV, Mt. Rose Ski Tahoe Atoma Area Expansion, Review Period Ends: 06/17/2019, Contact: Marnie Bonesteel 775-352-1240.

EIS No. 20190101, Draft, BLM, NV, Mackey Optimization Project, Comment Period Ends: 07/01/2019, Contact: Jeanette Black, EIS Project Manager 775-623-1500.

EIS No. 20190102, Draft, BLM, NV, Hycroft Mine Phase II Expansion Project, Comment Period Ends: 07/01/2019, Contact: Dr. Mark Hall 775-623-1500.

EIS No. 20190103, Final, BLM, ID, Caldwell Canyon Mine and Reclamation Plan, Review Period Ends: 06/17/2019, Contact: Bill Volk 208-236-7503.

EIS No. 20190104, Draft, FTA, NJ, NJ Transitgrid Traction Power System, Comment Period Ends: 07/19/2019, Contact: Daniel Moser 212-668-2326.

EIS No. 20190105, Draft Supplement, BLM, MT, Miles City Field Office Draft Supplemental EIS and RMP Amendment, Comment Period Ends: 08/15/2019, Contact: Irma Nansel 406-233-2800.

EIS No. 20190106, Draft Supplement, BLM, WY, Buffalo Field Office Draft Supplemental EIS and RMP Amendment, Comment Period Ends: 08/15/2019, Contact: Tom Bills 307-684-1100.

EIS No. 20190107, Draft, NMFS, REG, Draft Regulatory Amendment to Modify Pelagic Longline Bluefin Tuna Area-Based and Weak Hook Management Measures, Comment Period Ends: 07/31/2019, Contact: Jennifer Cudney 727-824-5399.

Amended Notice

EIS No. 20190018, Draft, USACE, AK, Pebble Mine, Comment Period Ends: 07/01/2019, Contact: Shane McCoy 907-753-2715.

Revision to FR Notice Published 03/01/2019; Extending the Comment Period from 05/31/2019 to 07/01/2019.

Dated: May 13, 2019.
Robert Tomiak,
Director, Office of Federal Activities.

[FR Doc. 2019-10214 Filed 5-16-19; 8:45 am]

BILLING CODE 6560-50-P